DEPARTMENT OF COMMERCE

National Oceanic and Atmospheric Administration

RIN 0648-XU87

Marine Mammals; File No. 15126

AGENCY: National Marine Fisheries Service (NMFS), National Oceanic and Atmospheric Administration (NOAA), Commerce.

ACTION: Notice; receipt of application.

SUMMARY: Notice is hereby given that NMFS National Marine Mammal Laboratory, (Responsible Party: Dr. John Bengtson, Director), Seattle, WA, has applied for a permit to conduct research on marine mammals in Alaska.

DATES: Written, telefaxed, or e-mail comments must be received on or before April 7, 2010.

ADDRESSES: The application and related documents are available for review by selecting “Records Open for Public Comment” from the Features box on the Applications and Permits for Protected Species (APPS) home page, https://apps.nmfs.noaa.gov, and then selecting File No. 15126 from the list of available applications.

These documents are also available upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Amy Sloan, (301)713-2289.

SUPPLEMENTARY INFORMATION: The subject permit is requested under the authority of the Marine Mammal Protection Act of 1972, as amended (MMPA; 16 U.S.C. 1361 et seq.) and the regulations governing the taking and importing of marine mammals (50 CFR part 216).

The applicant requests a five-year permit to investigate the foraging ecology, habitat requirements, vital rates, and effects of natural and anthropogenic factors for ribbon seals (Phoca fasciata), spotted seals (P. largha), ringed seals (P. hispida), harbor seals (P. vitulina), and bearded seals (Erignathus barbatus) in the North Pacific Ocean, Bering Sea, Arctic Ocean and coastal regions of Alaska. The applicant requests permission to capture up to 150 of each ice-associated seal species (ribbon, spotted, ringed and bearded) per year and up to 250 harbor seals annually for measurement of body condition, collection of tissue samples (blood, blubber, muscle, skin, hair, vibrissae, swab samples), attachment of telemetry devices, and other procedures as described in the application. Up to 10 animals of each species would be intentionally recaptured each year for retrieval of instruments and additional sample collection. The applicant requests permission to harass an additional 3,000 of each ice associated seal species and 5,500 harbor seals annually incidental to capture activities or during collection of feces and other samples from haul-out substrate. The applicant requests allowance for unintentional mortality of five individuals of each species per year.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 2, 2010.
Tammy C. Adams,
Acting Chief, Permits, Conservation and Education Division, Office of Protected Resources, National Marine Fisheries Service.

[FR Doc. 2010-4865 Filed 3-5-10; 8:45 am]

BILLING CODE 3510-22-S